DEPARTMENT OF THE INTERIOR

National Park Service

[NPS-WASO-NRNHL-18707;PPWOCRADI0, PCU00RP14.R50000]

National Register of Historic Places; Notification of Pending Nominations and Related Actions

Nominations for the following properties being considered for listing or related actions in the National Register were received by the National Park Service before June 27, 2015. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by August 5, 2015. Before including your address, phone number, email address, or other personal identifying information in your comment, you should be aware that your entire comment—including your personal identifying information—may be made publicly available at any time. While you can ask us in your comment to withhold your personal identifying information from public review, we cannot guarantee that we will be able to do so.

Dated: July 1, 2015.
Roger Reed,
Acting Chief, National Register of Historic Places/National Historic Landmarks Program.

CALIFORNIA

San Diego County

Kwaaymii Homeland, Address Restricted, Mount Laguna, 15000506

DISTRICT OF COLUMBIA

District of Columbia

West Heating Plant, (Georgetown MRA) 1051 29th St. NW., Washington, 15000507

FLORIDA

Okeechobee County

First Methodist Episcopal Church, South, 200 NW. 2nd St., Okeechobee, 15000509

MASSACHUSETTS

Worcester County

Four Corners—Goodnow Farm Historic District, Gates, Goodnow, Old Colony, Rhodes & Thompson Rds., Princeton, 15000510

MONTANA

Carbon County

Camp Senia Historic District (Boundary Increase and Additional Data), Custer National Forest, Red Lodge, 15000511

NEW YORK

Erie County

East Hill Historic District, 98-367 E. Main St., Springville, 15000512

Sts. Peter and Paul Orthodox Church Complex, 40 Benzinger St., Buffalo, 15000513

Ontario County

St. Francis de Sales Parish Complex, 94, 110, 130 & 140 Exchange St., Geneva, 15000514

Orange County

Cottage in the Pines, 1200 NY 42, Deerpark, 15000515

Rockland County

Main School, 45 Mountain Ave., Hilburn, 15000516

Suffolk County

Babylon Library, The, 117 W. Main St., Babylon, 15000517

Tuthill, Daniel and Henry P., Farm, 1146 Main Rd., Jamesport, 15000518

Wyoming County

Roup, Barna C., House, 38 Borden Ave., Perry, 15000519

WYOMING

Natrona County

Edness Kimball Wilkins No. 1 Site, Address Restricted, Evansville, 15000520

In the interest of preservation, a three day comment period has been requested for the following resource:

FLORIDA

Lake County

Fruitland Park Community Center, 604 W. Berckman St., Fruitland Park, 15000508

[FR Doc. 2015-17771 Filed 7-20-15; 8:45 am]

BILLING CODE 4312-51-P